DEPARTMENT OF HEALTH AND HUMAN SERVICES

Administration for Children and Families

Submission for OMB Review; Comment Request

Title: DHHS/ACF/ASPE/DOL Enhanced Services for the Hard-to-Employ Demonstration and Evaluation: Rhode Island 15-Month Survey Amendment.

OMB No.: 0970-0276.

Description: The Enhanced Services for the Hard-to-Employ Demonstration and Evaluation Project (HtE) is the most ambitious, comprehensive effort to learn what works in this area to date and is explicitly designed to build on previous and ongoing research by rigorously testing a wide variety of approaches to promote employment and improve family functioning and child well-being. The HtE project will “conduct a multi-site evaluation that studies the implementation issues, program design, net impact and benefit-costs of selected programs” ¹ designed to help Temporary Assistance for Needy Families (TANF) recipients, former TANF recipients, or low income parents who are hard-to-employ. The project is sponsored by the Office of Planning, Research and Evaluation (OPRE) of the Administration for Children and Families (ACF), the Office of the Assistant Secretary for Planning and Evaluation (ASPE) in the U.S. Department of Health and Human Services (HHS), and the U.S. Department of Labor (DOL).

¹ From the Department of Health and Human Services RFP No.: 233-01-0012.

The evaluation involves an experimental, random assignment design in four sites, testing a diverse set of strategies to promote employment for low-income parents who face serious obstacles to employment. The four include: (1) Intensive care management to facilitate the use of evidence-based treatment for major depression among parents receiving Medicaid in Rhode Island; (2) job readiness training, worksite placements, job coaching, job development and other training opportunities for recent parolees in New York City; (3) pre-employment services and transitional employment for long-term TANF participants in Philadelphia; and (4) home- and center-based care, enhanced with self-sufficiency services, for low-income families who have young children or are expecting in Kansas and Missouri.

Materials for follow-up surveys for each of these sites were previously submitted to OMB and were approved on April 29, 2005. The purpose of this submission is to introduce an addition to the OMB-approved follow-up survey effort in the Rhode Island site that will be used to collect follow-up data on children's development.

The additional content we propose for the follow-up survey effort will be used to address two questions: (1) What are the effects of a telephonic care management intervention for parents' depression on parents' parenting and on children's health, behavior, and development; and (2) To what extent can intervention effects on children's development be attributed to changes in maternal depressive symptomatology that result from the intervention?

Two follow-up surveys are included in this submission:

1. A 15-month follow-up parent survey that will supplement other information already collected from parents by addressing questions about parenting and children's well-being.

2. 15-month follow-up youth survey will be administered to up to two of the older focal children of these parents.

3. Additionally, a 15-month follow-up direct child assessment for up to two younger children will be conducted. This assessment will consist of cognitive and behavioral assessments conducted directly with the children. These procedures are described in the OMB Supporting Statement.

Respondents: The respondents to these follow-up surveys will be low-income parents and their children from the Rhode Island site currently participating in the HtE Project. As described in the prior OMB submission, these parents are Medicaid recipients between the ages of 18 and 45 receiving Medicaid through the managed care provider United Behavioral Health (UBH) in Rhode Island who meet study criteria with regard to their risk for depression. Children are the biological, adopted, and step-children of these parents, between the ages of 1 and 17 years of age.

Prior to this follow-up survey, all parents will have completed a more detailed baseline survey, which is required to establish baseline measures of depression and related conditions, in addition to providing critical demographic data. The baseline survey was previously approved by OMB.

The annual burden estimates are detailed below.

Annual Burden Estimates
Instrument | Number of respondents | Number of responses per respondent | Average burden hours per response | Total burde hours
RI 15-month, parent child add-on survey | 400 | 1 | 45 minutes or .75 hrs | 300
RI 15-month, youth survey | 298 | 1 | 45 minutes or .75 hrs | 223.5
RI 15-month, direct child assessment | 164 | 1 | 45 minutes or .75 hrs | 123

Estimated Total Annual Burden Hours: 646.5.

Additional Information

Copies of the proposed collection may be obtained by writing to The Administration for Children and Families, Office of Information Services, 370 L'Enfant Promenade, SW., Washington, DC 20447, Attn: ACF Reports Clearance Officer. E-mail: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF. E-mail: Katherine_T._Astrich@omb.eop.gov.

Dated: February 7, 2006.
Robert Sargis,
Reports Clearance Officer.

[FR Doc. 06-1294 Filed 2-10-06; 8:45 am]

BILLING CODE 4184-01-M